ENVIRONMENTAL PROTECTION AGENCY

40 CFR Part 52

[EPA-R05-OAR-2013-0824; FRL-9928-34-Region 5]

Approval and Promulgation of Air Quality Implementation Plans; Michigan; Part 3 Rules

AGENCY: Environmental Protection Agency (EPA).

ACTION: Proposed rule.

SUMMARY: The Environmental Protection Agency (EPA) is approving revisions to the Part 3 rules into the Michigan State Implementation Plan (SIP). On December 13, 2013, the Michigan Department of Environmental Quality (MDEQ) submitted to EPA for approval revisions to Part 3, Emission Limitations and Prohibitions—Particulate Matter (PM), for open burning and electro-static precipitators (ESPs). The revisions for open burning eliminate specific provisions to allow household waste burning, and add a provision to allow for burning of fruit and vegetable storage bins for pest or disease control with specific location limitations. The SIP request also removes rule 330 dealing with operation parameters for electrostatic precipitators because of redundancy, and rule 349 dealing with compliance dates for coke ovens because it is now obsolete. EPA is approving this SIP revision because it will not interfere with attainment or maintenance of the fine particulate matter (PM2.5) National Ambient Air Quality Standard (NAAQS).

DATES: Comments must be received on or before July 2, 2015.

ADDRESSES: Submit your comments, identified by Docket ID No. EPA-R05-OAR-2013-0824, by one of the following methods:

1. www.regulations.gov: Follow the on-line instructions for submitting comments.

2. Email: blakley.pamela@epa.gov.

3. Fax: (312) 692-2450.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Please see the direct final rule which is located in the Final Rules section of this Federal Register for detailed instructions on how to submit comments.

FOR FURTHER INFORMATION CONTACT: Carolyn Persoon, Environmental Engineer, Control Strategies Section, Air Programs Branch (AR-18J), Environmental Protection Agency, Region 5, 77 West Jackson Boulevard, Chicago, Illinois 60604, (312)353-8290, persoon.carolyn@epa.gov.

SUPPLEMENTARY INFORMATION: In the Final Rules section of this Federal Register, EPA is approving the state's SIP submittal as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this Federal Register.

Dated: May 18, 2015.
Susan Hedman,
Regional Administrator, Region 5.

[FR Doc. 2015-13119 Filed 6-1-15; 8:45 am]

BILLING CODE 6560-50-P